DEPARTMENT OF TRANSPORTATION

Federal Highway Administration

Notice of Final Federal Agency Actions on Proposed Highway in Utah

AGENCY: Utah Department of Transportation (UDOT), Federal Highway Administration (FHWA), Department of Transportation.

ACTION: Notice of limitation on claims for judicial review of actions taken by UDOT on behalf of FHWA.

SUMMARY: This notice announces certain actions taken by UDOT that are final Federal agency actions. These actions relate to a proposed highway project on Interstate 15 (I-15) at and in the vicinity of the Payson Main Street Interchange (exit 250) in the County of Utah, State of Utah. Those actions grant licenses, permits and/or approvals for the project.

DATES: By this notice, the FHWA, on behalf of UDOT, is advising the public of final Federal agency actions subject to 23 U.S.C. 139(l)(1). A claim seeking judicial review of the Federal agency actions on the highway project will be barred unless the claim is filed on or before August 5, 2019. If the Federal law that authorizes judicial review of a claim provides a time period of less than 150 days for filing such claim, then that shorter time period still applies.

FOR FURTHER INFORMATION CONTACT: Naomi Kisen, Environmental Program Manager, UDOT Environmental Services, PO Box 143600, Salt Lake City, UT 84114; telephone: (801) 965-4005; email: nkisen@utah.gov. UDOT's normal business hours are 8:00 a.m. to 5:00 p.m. (Mountain Standard Time), Monday through Friday, except State and Federal holidays.

SUPPLEMENTARY INFORMATION: Effective January 17, 2017, FHWA assigned to UDOT certain responsibilities of FHWA for environmental review, consultation, and other actions required by applicable Federal environmental laws and regulations for highway projects in Utah, pursuant to 23 U.S.C. 327. Actions taken by UDOT on FHWA's behalf pursuant to 23 U.S.C. 327 constitute Federal agency actions for purposes of Federal law. Notice is hereby given that UDOT has taken final agency actions subject to 23 U.S.C. 139(l)(1) by issuing licenses, permits, and approvals for the I-15; Payson Main Street Interchange project in the State of Utah. This project proposes to address current and future travel demand and improve safety at the Payson Main Street Interchange. The project includes reconfiguring the Main Street Interchange to increase capacity and realigning Main Street to connect to 900 North. A new interchange would be constructed northeast of the existing Main Street Interchange, connecting Nebo Beltway to I-15. Nebo Beltway—a new five lane arterial road—would connect I-15 to Main Street (SR-115) and SR-198. Braided ramps (i.e., ramps that cross over each other) would connect the Main Street and Nebo Beltway interchanges. Finally, the railroad west of I-15 would be realigned to accommodate interchange improvements and provide grade separation at surface streets. These improvements were identified in the Environmental Impact Statement (EIS) as Alternative C1. The actions by UDOT, and the laws under which such actions were taken, are described in the EIS and UDOT Record of Decision (ROD) for the project (Record of Decision, Environmental Impact Statement, 1-15; Payson Main Street Interchange in Utah County, Utah, Project No. F-I15-6(214)251), issued on February 8, 2019, and in other documents in the UDOT project records. The EIS and ROD, and other project records are available by contacting UDOT at the address provided above. The EIS and ROD can also be viewed and downloaded from the project website at https://www.udot.utah.gov/paysoneis/index.php.

This notice applies to the EIS, the ROD, the Section 4(f) determination, the NHPA Section 106 review, the noise assessment, the Endangered Species Act determination, and all other UDOT decisions and other actions with respect to the project as of the issuance date of this notice and all laws under which such actions were taken, including but not limited to the following laws (including their implementing regulations):

1. General: National Environmental Policy Act,42 U.S.C. 4321-4351; Federal-Aid Highway Act, 23 U.S.C. 109 and 23 U.S.C. 128.

2. Air: Clean Air Act, 42 U.S.C. 7401-7671q.

3. Land: Section 4(f) of the Department of Transportation Act of 1966, 49 U.S.C. 303; 23 U.S.C. 138; Landscaping and Scenic Enhancement (Wildflowers), 23 U.S.C. 319.

4. Wildlife: Endangered Species Act, 16 U.S.C. 1531-1544 and Section 1536; Fish and Wildlife Coordination Act, 16 U.S.C. 661-667d; Migratory Bird Treaty Act, 16 U.S.C. 703-712.

5. Water: Section 404 of the Clean Water Act, 33 U.S.C. 1344; E.O. 11990, Protection of Wetlands; Section 402 of the Clean Water Act, 33 U.S.C. 1342.

6. Historic and Cultural Resources: Section 106 of the National Historic Preservation Act of 1966, 16 U.S.C. 470f; Archeological Resources Protection Act of 1977, 16 U.S.C. 470aa-470mm; Archeological and Historic Preservation Act, 16 U.S.C. 469-469c.

7. Noise: Federal-Aid Highway Act of 1970, Public Law 91-605, 84 Stat. 1713.

8. Executive Orders: E.O. 11593 Protection and Enhancement of Cultural Resources; E.O. 13287 Preserve America; E.O. 12898, Federal Actions to Address Environmental Justice and Low-Income Populations.

(Catalog of Federal Domestic Assistance Program Number 20.205, Highway Planning and Construction. The regulations implementing Executive Order 12372 regarding intergovernmental consultation on Federal programs and activities apply to this program.)

Authority: 23 U.S.C. 139(l)(1).

Issued on: Dated: March 1, 2019.
Ivan Marrero,
Division Administrator, Federal Highway Administration, Salt Lake City, Utah.

[FR Doc. 2019-04229 Filed 3-7-19; 8:45 am]

BILLING CODE 4910-RY-P